DEPARTMENT OF LABOR

Employment and Training Administration

[TA-W-64,981]

EFTEC North America LLC, Dayton, OH; Notice of Termination of Investigation

Pursuant to Section 221 of the Trade Act of 1974, as amended, an investigation was initiated on January 22, 2009 in response to a petition filed by the International Union, United Automobile, Aerospace and Agricultural Implement Workers of America (UAW), Local 888, on behalf of workers of EFTEC North America LLC, Dayton, Ohio.

The petitioner has requested that the petition be withdrawn. Consequently, the investigation has been terminated.

Signed at Washington, DC, this 15th day of April 2009.
Richard Church,
Certifying Officer, Division of Trade Adjustment Assistance.

[FR Doc. E9-10902 Filed 5-8-09; 8:45 am]

BILLING CODE 4510-FN-P